DEPARTMENT OF ENERGY

Federal Energy Regulatory Commission

[Project No. 2689-021]

N.E.W. Hydro, Inc.; Notice of Availability of Draft Environmental Assessment and Soliciting Comments

February 9, 2001.

In accordance with the National Environmental Policy Act of 1969 and the Federal Energy Regulatory Commission's (Commission's) regulations, 18 CFR part 380 (Order 486, 52 FR 47897), the Commission's Office of Energy Projects has reviewed an application to modify Article 401 of the license for the Oconto Falls Project, FERC No. 2689-021. Article 401 requires the licensee to operate the project in a run-of-river mode (ROR) with a reservoir operating range of 701.92 ± 0.3 feet NGVD. The licensee requests that Article 401 be amended to only require the minimum reservoir operating elevation of 701.62 NGVD, currently allowed by Article 401, with no maximum operating limit. The Oconto Falls Project is located in Oconto Falls, on the Oconto River, Oconto County, Wisconsin. A Draft Environmental Assessment (DEA) was prepared for the amendment request. The DEA finds the licensee's request to amend Article 401 by eliminating the maximum operating elevation, with staff's recommendations, would not constitute a major federal action significantly affecting the quality of the human environment.

The DEA was written by staff in the Office of Energy Projects, Federal Energy Regulatory Commission. Copies of the DEA can be viewed in the Public Reference Room, Room 2-A, of the Commission's offices at 888 First Street, NE., Washington, DC 20426. The DEA may also be viewed on the web at http://www.ferc.fed.us/online/rims.htm (please call (202) 208-2222 for assistance).

Comments on the DEA must be filed with the Commission within 40 days from the date of this notice. Comments should be addressed to: David P. Boergers, Secretary, Federal Energy Regulatory Commission, 888 First Street, NE., Washington, DC 20426. Please reference the number, P-2689-021, on any comments filed. Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-3811 Filed 2-14-01; 8:45 am]

BILLING CODE 6717-01-M